DEPARTMENT OF TRANSPORTATION

Federal Aviation Administration

Seventh Meeting: RTCA Special Committee 223: Airport Surface Wireless Communications

AGENCY: Federal Aviation Administration (FAA), Department of Transportation (DOT).

ACTION: Notice of RTCA Special Committee 223: Airport Surface Wireless Communications meeting.

SUMMARY: The FAA is issuing this notice to advise the public of a meeting of RTCA Special Committee 223: Airport Surface Wireless Communications.

DATES: The meeting will be held November 16-17, 2010 from 9 a.m.-5 p.m.

ADDRESSES: The meeting will be held at RTCA Inc., 1828 L Street, NW., Suite 805, Washington, DC 20036.

FOR FURTHER INFORMATION CONTACT: RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a RTCA Special Committee 223: Airport Surface Wireless Communications meeting.

Agenda

Tuesday, November 16, 2010

• Tuesday Morning

• Welcome, Introductions, Administrative Remarks by Special Committee Leadership

• Designated Federal Official (DFO): Mr. Brent Phillips

• Co-Chair: Mr. Aloke Roy, Honeywell International

• Co-Chair: Mr. Ward Hall, ITT Corporation

• Review/Approve prior Plenary minutes and action item status

• AeroMACS Profile Working Group Status

• AeroMACS User Services and Applications Ad-Hoc Working Group Status

• Introduction of MOPS Working group leader

• Technical Presentations

• Tuesday Afternoon

• Technical Presentations (continued)

• Form MOPS Working Group

• Profiles WG Breakout Session

Wednesday, November 17, 2010

• Wednesday Morning—User Services and Applications (USAS) Breakout Session

• User Services and Applications Definition

• Wednesday Afternoon—Reconvene Plenary

• Profiles WG Status Report and Plenary Guidance

• USAS WG Status Report and Plenary Guidance

• Establish Agenda, Date and Place for the next plenary meeting

• Review of Meeting summary report

• Adjourn—Expected by 3 p.m. on November 17th

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on October 25, 2010.
Kathy L. Hitt,
RTCA Advisory Committee.

[FR Doc. 2010-27314 Filed 10-27-10; 8:45 am]

BILLING CODE 4910-13-P